DEPARTMENT OF EDUCATION

Office of Postsecondary Education; Overview Information; Erma Byrd Scholarship Program; Notice Inviting Applications for New Awards for Fiscal Year (FY) 2010

Catalog of Federal Domestic Assistance (CFDA) Number: 84.116E.

Dates:

Applications Available: February 24, 2010.

Deadline for Transmittal of Applications: March 26, 2010.

Full Text of Announcement

I. Funding Opportunity Description

Purpose of Program: The Erma Byrd Scholarship Program provides scholarships to individuals pursuing a course of study that will lead to a career in industrial health and safety occupations, including mine safety. This program is designed to increase the skilled workforce in these fields at both the fundamental skills level and the advanced skills level. The program has a service obligation component, which requires recipients of the scholarship to begin employment in a career position related to industrial health and safety no later than six months after completion of the degree program, and to continue to work in a career position related to industrial health and safety, including mine safety, for a period of one year.

The scholarships are available to students in the following eligible areas of study related to industrial health and safety: Mining and mineral engineering, industrial engineering, occupational safety and health technology/technician, quality control technology/technician, industrial safety technology/technician, hazardous materials information systems technology/technician, mining technology/technician, and occupational health and industrial hygiene.

Program Authority: For Federal fiscal year 2010, the Erma Byrd Scholarship Program is established by division D, title III of the Consolidated Appropriations Act, 2010, Public Law 111-117.

Applicable Regulations: The Education Department General Administrative Regulations (EDGAR) in 34 CFR parts 74, 75, 77, 80, 81, 82, 84, 85, 86, 97, 98, and 99.

II. Award Information

Type of Award: Discretionary grant.

Estimated Available Funds for New Awards: $833,750.

Estimated Average Size of Awards: $2,500 (associate's degree student); $5,000 (bachelor's degree student); $10,000 (graduate degree student).

Estimated Number of Awards: 120. The number of scholarships awarded will be allocated between undergraduate students and graduate students in the same proportion as the number of fundable applications received from those groups of students, taking into account the size of the awards to be made to students in those groups.

Note: The Department is not bound by any estimates in this notice.

Project Period: Up to 24 months.

III. Eligibility Information and Program Requirements

1. Eligible Applicants: Individuals who, at the time of application, are: (1) Enrolled or planning to enroll in an associate's, bachelor's, or graduate degree program at an accredited U.S. institution of higher education; (2) within two years of completing a degree in an eligible field of study under the Erma Byrd Scholarship Program; (3) a citizen, national, or permanent resident of the United States; and (4) eligible to receive Federal grants, loans, or work assistance pursuant to section 484 of the Higher Education Act of 1965, as amended (HEA).

2. Program Requirements:

(a) Satisfactory academic progress. Scholarship recipients must maintain satisfactory academic progress in accordance with 34 CFR 668.34 throughout the period of funding; additionally, they must submit a Student Activities Report to the Secretary at the end of each year of funding, with a certification from an authorized representative of the institution that the student is maintaining satisfactory academic progress. If an Erma Byrd Scholarship recipient does not maintain satisfactory academic progress throughout the period of funding or does not submit a Student Activities Report to the Secretary at the end of each year of funding, the recipient is not eligible for any additional funding and must repay the scholarship amount as a Direct Unsubsidized Student Loan with all the associated repayment conditions, including interest charges and fees as provided under title IV, part D of the HEA.

(b) Service obligation. Scholarship recipients must be employed in a career position related to industrial health and safety, including mine safety, for a period of one year following the completion of their degree program. Scholarship recipients must begin such employment no more than six months after the completion of their degree program. A scholarship recipient must submit a verification of employment report to the Secretary no more than six months immediately after completion of his or her degree program, reporting on post-graduation activities, including changes in their permanent address, e-mail, phone number, and employment status. Additionally, scholarship recipients must submit a final employment report to the Secretary at the end of the one-year service obligation period.

If an Erma Byrd Scholarship recipient does not fulfill the complete service obligation within eighteen months after completion of his or her degree program, the scholarship amount must be repaid as a Direct Unsubsidized Student Loan with all the associated repayment conditions, including interest charges and fees as provided under title IV, part D of the HEA.

3. Cost Sharing or Matching: This program does not require cost sharing or matching.

4. Applicability of Rulemaking Requirements. Under the Administrative Procedure Act (APA) (5 U.S.C. 553) and section 437 of the General Education Provisions Act (GEPA), 20 U.S.C. 1232(d)(1), the Department generally offers interested parties the opportunity to comment on proposed eligibility and other program requirements. Division D, title III of the Consolidated Appropriations Act, 2010, Public Law 111-117 provides, however, that the provisions of section 553 of the APA and section 437 of GEPA do not apply to this program.

IV. Application and Submission Information

1. Address To Request Application Package: You can obtain an application package via the Internet or from the Department. To obtain a copy via the Internet, use the following address for the Erma Byrd Scholarship Program Web site: http://www.ed.gov/programs/ermabyrd/index.html.

To obtain a copy from the Department, write, fax, or call the following: Lauren Kennedy, Erma Byrd Scholarship Program, U.S. Department of Education, Teacher and Student Development Programs Service, 1990 K Street, NW., room 6133, Washington, DC 20006-8524. Telephone: (202) 502-7630. Fax: (202) 502-7852 or by e-mail: ermabyrdprogram@ed.gov.

If you use a telecommunications device for the deaf (TDD), call the Federal Relay Service (FRS), toll free, at 1-800-877-8339.

Individuals with disabilities can obtain a copy of the application package in an accessible format (e.g., braille, large print, audiotape, or computer diskette) by contacting the person listed in this section.

2. Content and Form of Application Submission: Requirements concerning the content of an application, together with the forms you must submit, are in the application package for this program.

3. Submission Dates and Times:

Applications Available: February 24, 2010.

Deadline for Transmittal of Applications: March 26, 2010.

4. Intergovernmental Review: This program is not subject to Executive Order 12372 and the regulations in 34 CFR part 79.

5. Funding Restrictions: We reference regulations outlining funding restrictions in the Applicable Regulations section of this notice.

6. Other Submission Requirements: All applications must be submitted electronically by e-mailing the application in the form of a Microsoft Word (.DOC or .DOCX) document to ermabyrdprogram@ed.gov. Please note that an electronic application in a format other than Microsoft Word will not be accepted.

If you are unable to submit your application by e-mail and wish to submit your application by mail, you must submit a request for permission to submit it by mail, no less than 10 days prior to the application deadline date, to Lauren Kennedy by e-mail to ermabyrdprogram@ed.gov or by postal mail to U.S. Department of Education, Teacher and Student Development Programs Service, 1990 K Street, NW., Room 6133, Washington, DC 20006-8524. In your request, you must include the reason why you are unable to submit the application electronically.

Individuals with disabilities who need an accommodation or auxiliary aid in connection with the application process should contact the person listed under For Further Information Contact in section VII of this notice. If the Department provides an accommodation or auxiliary aid to an individual with a disability in connection with the application process, the individual's application remains subject to all other requirements and limitations in this notice.

V. Application Review Information

1. Selection Criteria:

All applicants are required to complete and submit the Erma Byrd Scholarship Program Applicant Information Form, which will be used to determine the applicant's eligibility for the scholarship.

2. Review and Selection Process:

(a) Undergraduate applicants. In selecting undergraduate students to receive a scholarship, the Secretary will award scholarships to students in the order that the applications are received. Priority will be given first to students who have demonstrated financial need and are eligible to receive a Federal Pell Grant.

Qualified undergraduate applicants who wish to have their Federal Pell Grant eligibility considered as part of their application must demonstrate financial need by submitting a Free Application for Federal Student Aid (FAFSA), which may be obtained at http://www.fafsa.ed.gov or from their institution's financial aid office, and by submitting their Social Security Number via postal mail using the Pell Grant Eligibility Certification Sheet contained in the Erma Byrd Scholarship Program application package. Applicants who have already submitted their FAFSA for the 2010-2011 award year do not need to resubmit the FAFSA.

The Secretary will award scholarships to applicants who are eligible for Federal Pell Grants and who are enrolled in eligible fields of study in the order that the applications are received.

If additional funds are available after awards are made to undergraduate students who are eligible for a Federal Pell Grant, scholarships will be awarded to qualified undergraduate students who are not eligible for a Federal Pell Grant in the order that their applications are received.

(b) Graduate applicants. In selecting graduate students to receive a scholarship, the Secretary will award scholarships to qualified students in the order that the applications are received.

VI. Award Administration Information

1. Award Notices: If your application is successful, we notify you and your U.S. Representative and U.S. Senators and send a Grant Award Notification (GAN) directly to the institution you will be attending. The institution will disburse funds to scholarship recipients in accordance with its regular payment schedule.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: Scholarship recipients must submit a Student Activities Report to the Secretary at the end of each year of funding, which includes certification from an authorized representative of the institution that the student is maintaining satisfactory academic progress. In addition, a scholarship recipient must submit a verification of employment report to the Secretary no more than six months immediately after completion of his or her degree program, reporting on post-graduation activities, including changes in their permanent address, e-mail, phone number, and employment status. Finally, scholarship recipients must submit a final employment report to the Secretary at the end of the service obligation period.

At the request of the student, an institution of higher education in which a scholarship recipient is enrolled must provide the student with written certification from an authorized representative of the institution that the student is maintaining satisfactory academic progress.

4. Performance Measures: The effectiveness of the Erma Byrd Scholarship Program will be measured by graduation completion rates, time-to-degree completion rates, and the percentage of students fulfilling the one-year service obligation within eighteen months of graduation. The Department will use the verification of employment and final employment reports to assess the program's success in assisting scholarship recipients in completing their course of study and receiving their degree, and entering the specified fields.

VII. Agency Contacts

For Further Information Contact: Lauren Kennedy, Erma Byrd Scholarship Program, U.S. Department of Education, Teacher and Student Development Programs Service, 1990 K Street, NW., Room 6133, Washington, DC 20006-8524. Telephone: (202) 502-7630 or by e-mail: ermabyrdprogram@ed.gov.

If you use a TDD, call the FRS, toll free, at 1-800-877-8339.

VIII. Other Information

Accessible Format: Individuals with disabilities can obtain this document and a copy of the application package in an accessible format (e.g. braille, large print, audiotape, or computer diskette) on request to the program contact person listed under For Further Information Contact in section VII of this notice.

Electronic Access to This Document: You can view this document, as well as all other documents of this Department published in the Federal Register, in text or Adobe Portable Document Format (PDF), on the Internet at the following site: http://www.ed.gov/news/fedregister. To use PDF, you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: February 19, 2010.
Daniel T. Madzelan,
Director, Forecasting and Policy Analysis.

[FR Doc. 2010-3717 Filed 2-23-10; 8:45 am]

BILLING CODE 4000-01-P